DEPARTMENT OF THE INTERIOR

Bureau of Reclamation

South Delta Improvements Program

AGENCY: Bureau of Reclamation, Interior.

ACTION: Notice of intent to prepare an environmental impact statement/environmental impact report (EIS/EIR) and notice of public scoping meetings.

SUMMARY: Pursuant to the National Environmental Policy Act (NEPA) and the California Environmental Quality Act (CEQA), the Bureau of Reclamation and the California Department of Water Resources (DWR) intend to prepare an EIS/EIR for implementing the South Delta Improvements Program (SDIP). The purpose of the SDIP is to increase conveyance capacity at the State Water Project's Delta export facility to meet water supply demands south of the Delta in a manner which does not further significantly adversely impact Bay-Delta fish species or other currently permitted beneficial uses of water in the south Delta.

DATES: A series of public scoping meetings will be held to solicit public input on alternatives, concerns, and issues to be addressed in the EIS/EIR. The dates are:

• October 7, 2002, 1:30 to 4 p.m., Sacramento, California.

• October 9, 2002, 6 to 8 p.m., Brentwood, California.

• October 10, 2002, 6 to 8 p.m., Los Angeles, California.

• October 15, 2002, 6 to 8 p.m., Fresno, California.

Written comments on the scope of the EIS/EIR may be mailed to Reclamation at the address below by October 4, 2002. Comments received after this date will be considered but may not be included in the resulting EIS/EIR scope.

ADDRESSES: The meeting locations are:

• Sacramento at Resources Building Auditorium, 1416 Ninth Street.

• Brentwood at Brentwood Community Center Multipurpose Room, 730 Third Street.

• Los Angeles at Metropolitan Water District of Southern California, 700 North Alameda Street.

• Fresno at Fresno Convention and Conference Center, 700 M Street, Wine Room.

Written comments on the scope of the EIS/EIR should be sent to Mr. Dan Meier, Bureau of Reclamation, 2800 Cottage Way, MP-700, Sacramento, CA 95825.

FOR FURTHER INFORMATION CONTACT: Mr. Meier, Reclamation, at the above address, or by telephone at 916-978-5086 or TDD 1-800-735-2922; or Mr. Paul Marshall, Department of Water Resources, 1416 Ninth Street, Sacramento, CA 94236, or by telephone at 916-653-2118.

SUPPLEMENTARY INFORMATION:

Background

Demands for water supplies from the Delta for municipal, agricultural, and environmental purposes have increased in recent years, creating conflicts between water users and efforts to sustain the Delta's aquatic ecosystem and recover listed fish. The joint Federal-State CALFED Bay-Delta Program (CALFED) was formed to develop and implement a long-term comprehensive plan to restore ecological health and improve water management for beneficial uses of the Bay-Delta system. The CALFED Programmatic EIS/EIR and Programmatic Record of Decision (ROD) were issued in July and August 2000, respectively.

The water export facilities for both of California's largest water projects, the State Water Project (SWP) (operated by DWR) and the Central Valley Project (CVP) (operated by Reclamation), are located in the south Delta. These export facilities provide water for urban, industrial, and agricultural uses from the San Francisco Bay area to southern California. In the south Delta, much of the land is used for agriculture purposes. There are approximately 170 diversions within the area of the South Delta Water Agency (SDWA) that provide water for irrigation. Through its Programmatic EIS/EIR, CALFED determined that its overall program objectives could not be met without some south Delta conveyance improvements. The SDIP contains key conveyance improvements identified for implementation in Stage 1 of CALFED.

There are three primary issues with respect to water in the south Delta: Water level, water quality, and fishery concerns. For water level, current diversion rates and the proposed diversion rates could lower the water stage, making the water in the channels too low for agricultural purposes during some low-tide conditions. To mitigate the effects of the lowered stage levels, DWR has been installing temporary rock hydraulic barriers each year; however, temporary barriers are expensive and inflexible in use, and limit water quality actions in the south Delta. The second issue is related to water quality. In addition to an adequate water supply, salinity standards set forth by the State Water Resources Control Board must also be met. Water quality for agriculture has been addressed through a partial exchange of water during high tides. However, this method is limited to the exchange that the tides can offer. The third issue is fishery concerns related to salmon and Delta smelt. San Joaquin River salmon populations have greatly declined since the construction of the CVP and SWP. Some of the decline is attributable to the operation of the CVP and SWP Delta export facilities, where San Joaquin River salmon smolts are lost through predation and entrainment. DWR has been installing a temporary rock barrier at the Head of Old River (where Old River bifurcates from the San Joaquin River) to reduce the number of fish entering the south Delta channels and being lost due to predation or entrainment.

The major components of the SDIP are:

• Increasing the maximum allowable diversion capacity at the SWP's Clifton Court Forebay to 8,500 cubic feet per second;

• Dredging a portion of Old River to improve conveyance capability during periods of high SWP and CVP Delta exports;

• Construction of permanent operable barriers to improve water supply reliability and water quality in the south Delta;

• Dredging local channels to reduce the frequency of barriers operations and to accommodate improvements to existing agricultural diversions both upstream and downstream of the proposed barriers;

• Constructing a permanent operable fish control structure at the head of Old River to reduce fish losses.

The SDIP is intended to address the needs of the export projects, the Delta ecosystem and local in-Delta agricultural water users. An integral element of the SDIP is to minimize water supply conflicts by incrementally increasing to the maximum pumping capability at Banks Pumping Plant when impacts to aquatic resources are low, thereby allowing reduced exports during environmentally sensitive times. The SDIP would provide more reliable long-term export capability by the SWP and CVP, protect local diversions in the Delta and minimize fishery impacts, and supplement and/or replace ongoing annual installation of temporary barriers and local dredging and diversion improvements in the Delta.

Alternatives

Initial types of alternatives identified for consideration involve alternative barrier design, number of barriers and locations of barriers, and operating criteria at Banks Pumping Plant. These alternatives will be analyzed in the EIS/EIR if they are determined to be reasonable and feasible alternatives that meet the basic purpose and need and objectives of the Proposed Action/Project. Additional alternatives may be identified through the public involvement and scoping process.

Additional Information

Comments provided on this NOI and as part of public scoping meetings, including names and home addresses of respondents, may be made available for public review. Individual respondents may request that their home address be withheld from public disclosure, which will be honored to the extent allowable by law. There may also be circumstances in which the respondent's identity may be withheld from public disclosure, as allowable by law. If you wish to withhold your name and/or address, you must state this prominently at the beginning of your comments. All submissions from organizations or businesses, and from individuals identifying themselves as representatives or officials of organizations or businesses, will be made available for public disclosure in their entirety.

If special services are required at the meeting, please contact Sammie Cervantes at (916) 978-5104, as far in advance of the meeting as possible. If a request cannot be honored, the requestor will be notified.

Dated: August 19, 2002.
Frank Michny,
Regional Environmental Officer.

[FR Doc. 02-22172 Filed 8-29-02; 8:45 am]

BILLING CODE 4310-MN-P